POSTAL REGULATORY COMMISSION

[Docket No. RM2010-14; Order No. 550]

Periodic Reporting Rules

AGENCY: Postal Regulatory Commission.

ACTION: Notice.

SUMMARY: This notice addresses the Postal Service request for semi-permanent exceptions to certain recently-adopted service performance measurement reporting requirements.

ADDRESSES: Submit comments electronically via the Commission's Filing Online system. Commenters who cannot submit filings electronically should contact the person identified in the FOR FURTHER INFORMATION CONTACT section for advice on alternatives.

FOR FURTHER INFORMATION CONTACT: Stephen L. Sharfman, General Counsel, stephen.sharfman@prc.gov or 202-789-6820.

SUPPLEMENTARY INFORMATION: On September 30, 2010, the Postal Service filed a request for a semi-permanent exception from periodic reporting of service performance measurement for Applications and Mailing Permits, pursuant to Commission Order No. 465 and 39 CFR 3055.3.¹

¹ United States Postal Service Request for Semi-Permanent Exception from Periodic Reporting of Service Performance Measurement, September 30, 2010 (Request); see also Docket No. RM2009-11, Order Establishing Final Rules Concerning Periodic Reporting of Service Performance Measurements and Customer Satisfaction, May 25, 2010, at 22 (Order No. 465).

Rule 3055.3 provides the Postal Service an opportunity to request that a product, or component of a product, be excluded from service performance measurement reporting upon demonstration that:

1. The cost of implementing a measurement system would be prohibitive in relation to the revenue generated by the product, or component of a product;

2. The product, or component of a product, defies meaningful measurement; or

3. The product, or component of a product, is in the form of a negotiated service agreement with substantially all components of the agreement included in the measurement of other products.

The Postal Service explains that Applications and Mailing Permits comprise nothing more than a transaction intended to establish or renew permission to enter bulk mailings. The Postal Service contends that this service defies meaningful measurement and falls within the 39 CFR 3055(a)(2) exception from reporting of service performance measurements. Request at 3.

The Commission establishes Docket No. RM2010-14 for consideration of matters related to the proposed semi-permanent exception from periodic reporting of service performance measurement identified in the Postal Service's Request.

Interested persons may submit comments on whether the Postal Service's Request is consistent with the policies of 39 U.S.C. 3652(a)(2) and 39 CFR 3055.3.² Comments are due no later than October 15, 2010. The Postal Service's Request can be accessed via the Commission's Web site (http:www.prc.gov).

² Those who cannot submit comments by the filing deadline should contact Mr. Sharfman.

The Commission appoints Katrina Martinez to serve as Public Representative in the captioned proceedings.

It is ordered:

1. The Commission establishes Docket No. RM2010-14 for consideration of matters raised by the Postal Service's Request.

2. Comments by interested persons in these proceedings are due no later than October 15, 2010.

3. Pursuant to 39 U.S.C. 505, Katrina Martinez is appointed to serve as the officer of the Commission (Public Representative) to represent the interests of the general public in these proceedings.

4. The Secretary shall arrange for publication of this order in the Federal Register.

By the Commission.
Shoshana M. Grove,
Secretary.

[FR Doc. 2010-26981 Filed 10-25-10; 8:45 am]

BILLING CODE 7710-FW-P